ENVIRONMENTAL PROTECTION AGENCY

[FRL-7795-9]

Notice of Approval of Federal Operating Permits to Transwestern Pipeline Company; El Paso Natural Gas Company; El Paso Field Services; William Field Services

AGENCY: Environmental Protection Agency (EPA).

ACTION: Notice.

SUMMARY: Notice is hereby given that EPA Region 6 has issued Federal operating permits to Transwestern Pipeline Company, El Paso Natural Gas Company, El Paso Field Services, and William Field Services.

These permits grant approval to the facilities identified in the permits to operate the air emission sources identified in the permits in accordance with the terms and conditions of the respective permits. This notice is published in accordance with 40 CFR 71.11(l)(7), which requires notice of any final agency action regarding a Federal operating permit to be published in the Federal Register.

FOR FURTHER INFORMATION CONTACT: The final permits are available online at http://yosemite.epa.gov/r6/Apermit.nsf/Part71 in a part 71 table. If you have any questions or would like a copy of any of the permits listed above, please contact Mr. Daron Page, at EPA, Multimedia Planning and Permitting Division (6PD-R), 1445 Ross Avenue, Dallas, Texas 75202, or (214) 665-7222 or by e-mail at page.daron@epa.gov.

SUPPLEMENTARY INFORMATION:

Name | Permit No. | Location | Reservation | Public notice | Issuance date | Effective date
Transwestern Pipeline | R6FOPP71-01 | Laguna, Cibola County, NM | Laguna Pueblo | 11/09/00 | 12/06/02 | 1/8/03
Transwestern Pipeline | R6FOPP71-01 Administrative Amendment | Laguna, Cibola County, NM | Laguna Pueblo | (¹) | 7/8/04 | 7/8/04
El Paso Natural Gas | R6FOPP71-02 | Laguna, Cibola County, NM | Laguna Pueblo | 12/28/02 | 3/19/04 | 4/18/04
El Paso Field Services | R6FOPP71-03 | Lindrith, Rio Arriba County, NM | Jicarilla Apache | 5/16/03 | 11/17/03 | 12/17/03
William Field Services, Los Mestenios | R6FOPP71-04 | Galivon, Rio Arriba County, NM | Jicarilla Apache | 6/13/03 | 11/17/03 | 12/16/03
William Field Services, Los Mestenios | R6FOPP71-04 Administrative Amendment | Galivon, Rio Arriba County, NM | Jicarilla Apache | (¹) | 5/7/04 | 5/7/04
William Field Services, Ojito | R6FOPP71-05 | Galivon, Rio Arriba County, NM | Jicarilla Apache | 10/31/03 | 1/20/04 | 1/20/04
¹ None.

The Federal operating permits issued by EPA to the facilities identified above incorporate all applicable air quality requirements and require monitoring to ensure compliance with these requirements. Submittal of periodic reports of all required monitoring, as well as submittal of an annual compliance certification, are also required. The Federal operating permits have a term not to exceed five years, and a timely application for permit renewal must be submitted to EPA prior to permit expiration in order to continue operation of the permitted source.

The provisions of 40 CFR part 71 govern issuance of these permits. EPA published a notice and opportunity to comment in a newspaper of general circulation in the area of the facility for each permit issued. The EPA received public comments on the Transwestern Pipeline Company; El Paso Natural Gas Company; El Paso Field Services; and William Field Services, Los Mestenios Compressor Station permits. In accordance with the requirements of 40 CFR 71.11(j), EPA responded to all comments received on these permits. The EPA received no comments on the permit for William Field Services, Ojito. Pursuant to 40 CFR 71.11(i), EPA provided copies of the final permits to the applicant and each person who submitted written comments on a permit or requested notice of the final permit decision. No one requested review of any of the final permits by the Environmental Appeals Board within 30 days of receipt of the final permits in accordance with 40 CFR 71.11(l). Thus, pursuant to 40 CFR 71.11(i) and (l), the permits became final on the dates indicated in the chart above. A petition to the Environmental Appeals Board under 40 CFR 71.11(l) is, under 42 U.S.C. 307(b), a prerequisite to seeking judicial review of the final agency action. See 40 CFR 71.11(l)(4).

40 CFR 71.11(l)(7) requires notice of any final agency action regarding a Federal operating permit to be published in the Federal Register. This notice satisfies that requirement.

Dated: July 21, 2004.
Lynda F. Carroll,
Acting Regional Administrator.

[FR Doc. 04-17501 Filed 7-30-04; 8:45 am]

BILLING CODE 6560-50-P